DEPARTMENT OF COMMERCE

International Trade Administration

[A-533-840]

Certain Frozen Warmwater Shrimp From India: Final Results of Antidumping Duty Administrative Review, Partial Rescission, and Final No Shipment Determination

AGENCY: Import Administration, International Trade Administration, Department of Commerce.

SUMMARY: On March 4, 2011, the Department of Commerce (the Department) published the preliminary results of the administrative review of the antidumping duty order on certain frozen warmwater shrimp (shrimp) from India. This review covers 201 producers/exporters ¹ of the subject merchandise to the United States. The period of review (POR) is February 1, 2009, through January 31, 2010.

¹ This figure does not include Vaibhav Sea Foods (Vaibhav), a company for which the Department is rescinding the administrative review. This figure also treats collapsed entities as one producer/exporter. For further discussion concerning the rescission of the review with respect to Vaibhav, see the “Partial Rescission” section of this notice below.

Based on our analysis of the comments received, we have made no changes to the margin calculations. Therefore, the final results do not differ from the preliminary results. The final weighted-average dumping margins for the reviewed firms are listed below in the section entitled “Final Results of Review.”

DATES: Effective Date: July 13, 2011.

FOR FURTHER INFORMATION CONTACT: Elizabeth Eastwood or Henry Almond, AD/CVD Operations, Office 2, Import Administration, International Trade Administration, U.S. Department of Commerce, 14th Street and Constitution Avenue, NW., Washington, DC, 20230; telephone (202) 482-3874 or (202) 482-0049, respectively.

SUPPLEMENTARY INFORMATION:

Background

This review covers 201 producers/exporters. The respondents which the Department selected for individual examination are Apex Exports (Apex) and Falcon Marine Exports Limited (Falcon). The respondents which were not selected for individual examination are listed in the “Final Results of Review” section of this notice.

On March 4, 2011, the Department published in the Federal Register the preliminary results of administrative review of the antidumping duty order on shrimp from India. See Certain Frozen Warmwater Shrimp From India: Preliminary Results of Antidumping Duty Administrative Review, Partial Rescission of Review, and Preliminary No Shipment Determination, 76 FR 12025 (Mar. 4, 2011) (Preliminary Results).

On March 21, 2011, in response to a request from the Department, Triveni Fisheries Pvt. Ltd. (Triveni), a respondent not selected for individual examination, clarified its previous submission to indicate that it had no shipments, entries or sales of subject merchandise during the POR. For further discussion, see the “Determination of No Shipments” section of this notice.

In April 2011, the Department verified the cost data reported by Apex in India.

We invited parties to comment on the Preliminary Results of review. In May 2011, we received case and rebuttal briefs from the Ad Hoc Shrimp Trade Action Committee (the petitioner), the American Shrimp Processors Association/the Louisiana Shrimp Association (collectively, “the processors”), and Apex and Falcon.

The Department has conducted this administrative review in accordance with section 751 of the Tariff Act of 1930, as amended (the Act).

Scope of the Order

The scope of this order includes certain frozen warmwater shrimp and prawns, whether wild-caught (ocean harvested) or farm-raised (produced by aquaculture), head-on or head-off, shell-on or peeled, tail-on or tail-off,² deveined or not deveined, cooked or raw, or otherwise processed in frozen form.

² “Tails” in this context means the tail fan, which includes the telson and the uropods.

The frozen warmwater shrimp and prawn products included in the scope of this order, regardless of definitions in the Harmonized Tariff Schedule of the United States (HTSUS), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of this order. In addition, food preparations, which are not “prepared meals,” that contain more than 20 percent by weight of shrimp or prawn are also included in the scope of this order.

Excluded from the scope are: (1) Breaded shrimp and prawns (HTSUS subheading 1605.20.10.20); (2) shrimp and prawns generally classified in the Pandalidae family and commonly referred to as coldwater shrimp, in any state of processing; (3) fresh shrimp and prawns whether shell-on or peeled (HTSUS subheadings 0306.23.00.20 and 0306.23.00.40); (4) shrimp and prawns in prepared meals (HTSUS subheading 1605.20.05.10); (5) dried shrimp and prawns; (6) canned warmwater shrimp and prawns (HTSUS subheading 1605.20.10.40); (7) certain dusted shrimp; and (8) certain battered shrimp. Dusted shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and ten percent of the product's total weight after being dusted, but prior to being frozen; and (5) that is subjected to IQF freezing immediately after application of the dusting layer. Battered shrimp is a shrimp-based product that, when dusted in accordance with the definition of dusting above, is coated with a wet viscous layer containing egg and/or milk, and par-fried.

The products covered by this order are currently classified under the following HTSUS subheadings: 0306.13.00.03, 0306.13.00.06, 0306.13.00.09, 0306.13.00.12, 0306.13.00.15, 0306.13.00.18, 0306.13.00.21, 0306.13.00.24, 0306.13.00.27, 0306.13.00.40, 1605.20.10.10, and 1605.20.10.30. These HTSUS subheadings are provided for convenience and for customs purposes only and are not dispositive, but rather the written description of the scope of this order is dispositive.

Period of Review

The POR is February 1, 2009, through January 31, 2010.

Partial Rescission

In April 2010, after receiving timely requests, the Department initiated this administrative review with respect to a number of Indian exporters/producers, including Vaibhav. See generally Certain Frozen Warmwater Shrimp From Brazil, India, and Thailand: Notice of Initiation of Antidumping Duty Administrative Reviews, 76 FR 18157 (Apr. 1, 2011) (Initiation Notice). We also included Vaibhav in the list of respondents not selected for individual review in our preliminary results. See generally Preliminary Results, 76 FR at 12032. However, in the 2005-2006 administrative review, we determined that this company no longer existed. See Certain Frozen Warmwater Shrimp From India: Final Results and Partial Rescission of Antidumping Duty Administrative Review, 72 FR 52055, 52057 (Sept. 12, 2007). Because there is no evidence on the record to contradict this prior determination, we find that our initiation with respect to Vaibhav was in error. As a result, we have determined to rescind this review with respect to Vaibhav.

Determination of No Shipments

As noted in the Preliminary Results, we received no-shipment claims from 20 companies named in the Initiation Notice, and we confirmed the claims from 19 of these companies with U.S. Customs and Border Protection (CBP). With respect to the remaining company, Triveni, it appeared from CBP entry documents that shrimp produced by this company entered the United States during the POR; however, as noted in the “Background” section, above, Trivini clarified its no-shipment statement after the date of the Preliminary Results to indicate that it had no knowledge of any shipments, entries, or sales of subject merchandise to the United States during this period. See Triveni's letter to the Department dated March 21, 2011. Based on Triveni's most recent submission, we find that Triveni had no reportable transactions during the POR.

Therefore, because we find that the record indicates that these 20 companies did not export subject merchandise to the United States during the POR, we determine that they had no reviewable transactions during the POR. These companies are:

(1) Abad Fisheries Pvt. Ltd.

(2) Accelerated Freeze Drying Company Ltd.³

³ This company was listed in the Initiation Notice as Accelerated Freeze-Drying Company Ltd.

(3) Baby Marine International

(4) Baby Marine Sarass

(5) Blue Water Foods & Exports P. Ltd.

(6) BMR Exports

(7) Castlerock Fisheries Pvt. Ltd.

(8) Coastal Corporation Ltd.

(9) Diamond Seafoods Exports/Edhayam Frozen Foods Pvt. Ltd./Kadalkanny Frozen Foods/Theva & Company

(10) G A Randerian (P) Limited ⁴

⁴ This company was listed in the Initiation Notice as G A Randerian Ltd.

(11) GKS Business Associates (P) Ltd.⁵

⁵ This company was listed in the Initiation Notice as G.K S Business Associates Pvt. Ltd.

(12) Kalyan Aqua & Marine Exports India Pvt. Ltd.

(13) L. G. Sea Foods ⁶

⁶ This company was listed in the Initiation Notice as L.G Seafoods.

(14) Lewis Natural Foods Ltd.

(15) Libran Cold Storages Pvt. Ltd.

(16) Shimpo Exports

(17) SSF Limited

(18) Sterling Foods

(19) Triveni Fisheries Pvt. Ltd.

(20) Unitriveni Overseas

As we stated in the Preliminary Results, our former practice concerning respondents submitting timely no-shipment certifications was to rescind the administrative review with respect to those companies if we were able to confirm the no-shipment certifications through a no-shipment inquiry with CBP. See Antidumping Duties; Countervailing Duties; Final rule, 62 FR 27296, 27393 (May 19, 1997); see also Stainless Steel Sheet and Strip in Coils from Taiwan: Final Results of Antidumping Duty Administrative Review, 75 FR 76700, 76701 (Dec. 9, 2010). As a result, in such circumstances, we normally instructed CBP to liquidate any entries from the no-shipment company at the deposit rate in effect on the date of entry.

In our May 6, 2003, clarification of the “automatic assessment” regulation, we explained that, where respondents in an administrative review demonstrate that they had no knowledge of sales through resellers to the United States, we would instruct CBP to liquidate such entries at the all-others rate applicable to the proceeding. See Antidumping and Countervailing Duty Proceedings: Assessment of Antidumping Duties, 68 FR 23954 (May 6, 2003) (Assessment Policy Notice).

As noted in the Preliminary Results, because “as entered” liquidation instructions do not alleviate the concerns which the May 2003 clarification was intended to address, we find it appropriate in this case to instruct CBP to liquidate any existing entries of merchandise produced by the above listed companies and exported by other parties at the all-others rate. In addition, we continue to find that it is more consistent with the May 2003 clarification not to rescind the review in part in these circumstances but, rather, to complete the review with respect to the 20 companies listed above and issue appropriate instructions to CBP based on the final results of this administrative review. See the “Assessment Rates” section of this notice below.

Cost of Production

As discussed in the Preliminary Results, we conducted an investigation to determine whether Apex and Falcon made third country sales of the foreign like product during the POR at prices below their costs of production (COP) within the meaning of section 773(b) of the Act. See Preliminary Results, 76 FR at 12029-12030. For these final results, we performed the cost test following the same methodology as in the Preliminary Results. See id. at 12030.

As explained in the Preliminary Results, based on the record of this administrative review we found 20 percent or more of Apex's and Falcon's sales of a given product during the reporting period were made at prices less than the weighted-average COP for this period. Thus, we determined that these below-cost sales were made in “substantial quantities” within an extended period of time and at prices which did not permit the recovery of all costs within a reasonable period of time in the normal course of trade. See id.; and sections 773(b)(1)-(2) of the Act.

Following the publication of the Preliminary Results, no additional information was placed on the record concerning our determination of sales made below COP. Therefore, for purposes of these final results, we continue to find that, for certain products, Apex and Falcon made below-cost sales not in the ordinary course of trade. Consequently, we are continuing to disregard these sales for each respondent and have used the remaining sales as the basis for determining normal value pursuant to section 773(b)(1) of the Act. Additionally, for those U.S. sales of subject merchandise for which there were no third country sales in the ordinary course of trade, we continued to compare export prices to constructed value in accordance with section 773(a)(4). See generally Preliminary Results, 76 FR at 12031.

Analysis of Comments Received

All issues raised in the case briefs by parties to this administrative review, are listed in the Appendix to this notice and addressed in the Issues and Decision Memorandum (Decision Memo), which is adopted by this notice. Parties can find a complete discussion of all issues raised in this review and the corresponding recommendations in this public memorandum, which is on file in the Central Records Unit, room 7046, of the main Department building.

In addition, a complete version of the Decision Memo can be accessed directly on the Web at http://ia.ita.doc.gov/frn/. The paper copy and electronic version of the Decision Memo are identical in content.

Changes Since the Preliminary Results

Based on our analysis of the comments received, we have made no changes in the margin calculations.

Final Results of Review

We determine that the following weighted-average margin percentages exist for the period February 1, 2009, through January 31, 2010:

Manufacturer/Exporter | Percent margin
Apex Exports | 2.31
Falcon Marine Exports Limited | 1.36

Review-Specific Average Rate Applicable to the Following Companies: ⁷

⁷ This rate is based on the average of the margins calculated for those companies selected for individual review, weighted by each company's publicly-ranged quantity of reported U.S. transactions. Because we cannot apply our normal methodology of calculating a weighted-average margin due to requests to protect business-proprietary information, we find this rate to be the best proxy of the actual weighted-average margin determined for the mandatory respondents. See Ball Bearings and Parts Thereof From France, et al.: Final Results of Antidumping Duty Administrative Reviews, Final Results of Changed-Circumstances Review, and Revocation of an Order in Part, 75 FR 53661, 53663 (Sept. 1, 2010) (Bearings from France).

Manufacturer/Exporter | Percent margin
Abad Fisheries Pvt. Ltd | *
Accelerated Freeze Drying Company Ltd | *
Adani Exports Ltd | 1.69
Adilakshmi Enterprises | 1.69
Allana Frozen Foods Pvt. Ltd | 1.69
Allansons Ltd | 1.69
AMI Enterprises | 1.69
Amulya Sea Foods | 1.69
Anand Aqua Exports | 1.69
Ananda Aqua Applications/Ananda Aqua Exports (P) Limited/ Ananda Foods | 1.69
Andaman Seafoods Pvt. Ltd | 1.69
Angelique Intl | 1.69
Anjaneya Seafoods | 1.69
Anjani Marine Traders | 1.69
Asvini Exports | 1.69
Asvini Feeds Limited | 1.69
Asvini Fisheries Private Limited | 1.69
Avanti Feeds Limited | 1.69
Ayshwarya Seafood Private Limited | 1.69
Baby Marine Exports | 1.69
Baby Marine International | *
Baby Marine Sarass | *
Bhatsons Aquatic Products | 1.69
Bhavani Seafoods | 1.69
Bhisti Exports | 1.69
Bijaya Marine Products | 1.69
Blue Water Foods & Exports P. Ltd | *
Bluefin Enterprises | 1.69
Bluepark Seafoods Pvt. Ltd | 1.69
Britto Exports | 1.69
BMR Exports | *
C P Aquaculture (India) Ltd | 1.69
Calcutta Seafoods Pvt. Ltd | 1.69
Capithan Exporting Co | 1.69
Castlerock Fisheries Pvt. Ltd | *
Chemmeens (Regd) | 1.69
Cherukattu Industries (Marine Div.) | 1.69
Choice Canning Company | 1.69
Choice Trading Corporation Private Limited | 1.69
Coastal Corporation Ltd | *
Cochin Frozen Food Exports Pvt. Ltd | 1.69
Coreline Exports | 1.69
Corlim Marine Exports Pvt. Ltd | 1.69
Damco India Private | 1.69
Devi Fisheries Limited | 1.69
Devi Marine Food Exports Private Ltd./Kader Exports Private Limited/Kader Investment and Trading Company Private Limited/Liberty Frozen Foods Pvt. Ltd./Liberty Oil Mills Ltd./Premier Marine Products/Universal Cold Storage Private Limited | 1.69
Dhanamjaya Impex P. Ltd | 1.69
Diamond Seafoods Exports/Edhayam Frozen Foods Pvt. Ltd./Kadalkanny Frozen Foods/Theva & Company | *
Digha Seafood Exports | 1.69
Esmario Export Enterprises | 1.69
Exporter Coreline Exports | 1.69
Five Star Marine Exports Private Limited | 1.69
Forstar Frozen Foods Pvt. Ltd | 1.69
Frigerio Conserva Allana Limited | 1.69
Frontline Exports Pvt. Ltd | 1.69
G A Randerian (P) Limited | *
Gadre Marine Exports | 1.69
Galaxy Maritech Exports P. Ltd | 1.69
Gayatri Sea Foods and Feeds Private Ltd | 1.69
Gayatri Seafoods | 1.69
Geo Aquatic Products (P) Ltd | 1.69
Geo Seafoods | 1.69
GKS Business Associates (P) Ltd | *
Grandtrust Overseas (P) Ltd | 1.69
GVR Exports Pvt. Ltd | 1.69
Haripriya Marine Export Pvt. Ltd | 1.69
Harmony Spices Pvt. Ltd | 1.69
HIC ABF Special Foods Pvt. Ltd | 1.69
Hindustan Lever, Ltd | 1.69
Hiravata Ice & Cold Storage | 1.69
Hiravati Exports Pvt. Ltd | 1.69
Hiravati International Pvt. Ltd. (located at APM—Mafco Yard, Sector—18, Vashi, Navi, Mumbai—400 705, India) | 1.69
Hiravati International Pvt. Ltd. (located at Jawar Naka, Porbandar, Gujarat, 360 575, India) | 1.69
IFB Agro Industries Ltd | 1.69
Indian Aquatic Products | 1.69
Indo Aquatics | 1.69
Innovative Foods Limited | 1.69
International Freezefish Exports | 1.69
Interseas | 1.69
ITC Limited, International Business | 1.69
ITC Ltd | 1.69
Jagadeesh Marine Exports | 1.69
Jaya Satya Marine Exports | 1.69
Jaya Satya Marine Exports Pvt. Ltd | 1.69
Jayalakshmi Sea Foods Private Limited | 1.69
Jinny Marine Traders | 1.69
Jiya Packagings | 1.69
KNR Marine Exports | 1.69
K R M Marine Exports Ltd | 1.69
K V Marine Exports | 1.69
Kalyan Aqua & Marine Exports India Pvt. Ltd | *
Kalyanee Marine | 1.69
Kay Kay Exports | 1.69
Kings Marine Products | 1.69
Koluthara Exports Ltd | 1.69
Konark Aquatics & Exports Pvt. Ltd | 1.69
L. G. Sea Foods | *
Landauer Ltd. C O Falcon Marine Exports Ltd | 1.69
Lewis Natural Foods Ltd | *
Libran Cold Storages Pvt. Ltd | *
Lotus Sea Farms | 1.69
Lourde Exports | 1.69
Magnum Estates Limited | 1.69
Magnum Export | 1.69
Magnum Sea Foods Limited | 1.69
Malabar Arabian Fisheries | 1.69
Malnad Exports Pvt. Ltd | 1.69
Mangala Marine Exim India Private Ltd | 1.69
Mangala Sea Products | 1.69
Marine Exports | 1.69
Meenaxi Fisheries Pvt. Ltd | 1.69
MSC Marine Exporters | 1.69
MSRDR Exports | 1.69
MTR Foods | 1.69
N.C. John & Sons (P) Ltd | 1.69
Naga Hanuman Fish Packers | 1.69
Naik Frozen Foods | 1.69
Naik Seafoods Ltd | 1.69
Navayuga Exports Ltd | 1.69
Nekkanti Sea Foods Limited | 1.69
NGR Aqua International | 1.69
Nila Sea Foods Pvt. Ltd | 1.69
Nine Up Frozen Foods | 1.69
Overseas Marine Export | 1.69
Penver Products (P) Ltd | 1.69
Pijikay International Exports P Ltd | 1.69
Pisces Seafood International | 1.69
Premier Seafoods Exim (P) Ltd | 1.69
R V R Marine Products Private Limited | 1.69
Raa Systems Pvt. Ltd | 1.69
Raju Exports | 1.69
Ram's Assorted Cold Storage Ltd | 1.69
Raunaq Ice & Cold Storage | 1.69
Raysons Aquatics Pvt. Ltd | 1.69
Razban Seafoods Ltd | 1.69
RBT Exports | 1.69
RDR Exports | 1.69
Riviera Exports Pvt. Ltd | 1.69
Rohi Marine Private Ltd | 1.69
Royal Cold Storage India P Ltd | 1.69
S & S Seafoods | 1.69
S. A. Exports | 1.69
S Chanchala Combines | 1.69
Safa Enterprises | 1.69
Sagar Foods | 1.69
Sagar Grandhi Exports Pvt. Ltd | 1.69
Sagarvihar Fisheries Pvt. Ltd | 1.69
SAI Marine Exports Pvt. Ltd | 1.69
SAI Sea Foods | 1.69
Sanchita Marine Products P Ltd | 1.69
Sandhya Aqua Exports | 1.69
Sandhya Aqua Exports Pvt. Ltd | 1.69
Sandhya Marines Limited | 1.69
Santhi Fisheries & Exports Ltd | 1.69
Satya Seafoods Private Limited | 1.69
Sawant Food Products | 1.69
Seagold Overseas Pvt. Ltd | 1.69
Selvam Exports Private Limited | 1.69
Sharat Industries Ltd | 1.69
Shimpo Exports | *
Shippers Exports | 1.69
Shroff Processed Food & Cold Storage P Ltd | 1.69
Silver Seafood | 1.69
Sita Marine Exports | 1.69
SLS Exports Pvt. Ltd | 1.69
Sprint Exports Pvt. Ltd | 1.69
Sri Chandrakantha Marine Exports | 1.69
Sri Sakkthi Cold Storage | 1.69
Sri Sakthi Marine Products P Ltd | 1.69
Sri Satya Marine Exports | 1.69
Sri Venkata Padmavathi Marine Foods Pvt. Ltd | 1.69
Srikanth International | 1.69
Srikanth International Agri Exports & Imports | 1.69
SSF Limited | *
Star Agro Marine Exports | 1.69
Star Agro Marine Exports Private Limited | 1.69
Sterling Foods | *
Sun Bio-Technology Ltd | 1.69
Supreme Exports | 1.69
Surya Marine Exports | 1.69
Suryamitra Exim (P) Ltd | 1.69
Suvarna Rekha Exports Private Limited | 1.69
Suvarna Rekha Marines P Ltd | 1.69
TBR Exports Pvt Ltd | 1.69
Teekay Marine P. Ltd | 1.69
Tejaswani Enterprises | 1.69
The Waterbase Ltd | 1.69
Triveni Fisheries P Ltd | *
Unitriveni Overseas | *
Usha Seafoods | 1.69
V.S Exim Pvt Ltd | 1.69
Veejay Impex | 1.69
Veeteejay Exim Pvt., Ltd | 1.69
Victoria Marine & Agro Exports Ltd | 1.69
Vijayalaxmi Seafoods | 1.69
Vinner Marine | 1.69
Vishal Exports | 1.69
Wellcome Fisheries Limited | 1.69
West Coast Frozen Foods Private Limited | 1.69
* No shipments or sales subject to this review.

Assessment Rates

The Department shall determine, and CBP shall assess, antidumping duties on all appropriate entries.

Pursuant to 19 CFR 351.212(b)(1), because Apex and Falcon reported the entered value for all of their U.S. sales, we have calculated importer-specific ad valorem duty assessment rates based on the ratio of the total amount of antidumping duties calculated for the examined sales to the total entered value of the sales for which entered value was reported. To determine whether the duty assessment rates are de minimis, in accordance with the requirement set forth in 19 CFR 351.106(c)(2), we have calculated importer-specific ad valorem ratios based on the entered value.

For the companies which were not selected for individual examination, we have calculated an assessment rate based on the average of the margins calculated for those companies selected for individual examination, weighted by each company's publicly-ranged quantity of reported U.S. transactions. In situations where we cannot apply our normal methodology of calculating a weighted-average margin due to requests to protect business-proprietary information but where use of a simple average does not yield the best proxy of the weighted-average margin relative to publicly available data, normally we will use the publicly available figures as a matter of practice. See Bearings from France, 75 FR at 53663.

Pursuant to 19 CFR 351.106(c)(2), we will instruct CBP to liquidate without regard to antidumping duties any entries for which the assessment rate is de minimis (i.e., less than 0.50 percent). The Department intends to issue assessment instructions to CBP 15 days after the date of publication of these final results of review.

The Department clarified its “automatic assessment” regulation on May 6, 2003. See Assessment Policy Notice. This clarification applies to entries of subject merchandise during the POR produced by companies included in these final results of review for which the reviewed companies did not know that the merchandise they sold to an intermediary (e.g., a reseller, trading company, or exporter) was destined for the United States. In such instances, we will instruct CBP to liquidate unreviewed entries at the all-others rate established in the less-than-fair-value (LTFV) investigation if there is no rate for the intermediate company(ies) involved in the transaction. See Assessment Policy Notice for a full discussion of this clarification.

Cash Deposit Requirements

The following deposit requirements will be effective for all shipments of subject merchandise ⁸ entered, or withdrawn from warehouse, for consumption on or after the publication date of the final results of this administrative review, as provided for by section 751(a)(2)(C) of the Act: (1) The cash deposit rates for the reviewed companies will be the rates shown above, except if the rate is less than 0.50 percent, de minimis within the meaning of 19 CFR 351.106(c)(1), the cash deposit will be zero; (2) for previously reviewed or investigated companies not listed above, as well as those companies listed in the “Determination of No Shipments” section, above, the cash deposit rate will continue to be the company-specific rate published for the most recent period; (3) if the exporter is not a firm covered in this review, or the LTFV investigation, but the manufacturer is, the cash deposit rate will be the rate established for the most recent period for the manufacturer of the merchandise; and (4) the cash deposit rate for all other manufacturers or exporters will continue to be 10.17 percent, the all-others rate established in the LTFV investigation. See Notice of Amended Final Determination of Sales at Less Than Fair Value and Antidumping Duty Order: Certain Frozen Warmwater Shrimp from India, 70 FR 5147, 5148 (Feb. 1, 2005). These deposit requirements shall remain in effect until further notice.

⁸ On April 26, 2011, the Department amended the scope of the antidumping duty orders on certain frozen warmwater shrimp from Brazil, India, the People's Republic of China, Thailand, and the Socialist Republic of Vietnam to include dusted shrimp within the scope of the orders. See Certain Frozen Warmwater Shrimp From Brazil, India, the People's Republic of China, Thailand, and the Socialist Republic of Vietnam: Amended Antidumping Duty Orders in Accordance with Final Court Decision, 76 FR 23277, 23279 (April 26, 2011). Accordingly, for all entries made on or after April 26, 2011, we will instruct CBP to collect cash deposits on imports of the subject merchandise (including dusted shrimp) entered, or withdrawn from warehouse, for consumption at the rates noted above.

Notification to Importers

This notice serves as a final reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification to Interested Parties

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing these results of review in accordance with sections 751(a)(1) and 777(i)(1) of the Act.

Dated: July 5, 2011.
Ronald K. Lorentzen,
Deputy Assistant Secretary for Import Administration.

Appendix—Issues in Decision Memorandum

General Issues

1. Offsetting of Negative Margins

2. Selection of Respondents Using a Sampling Methodology

3. Treatment of Assessed Antidumping Duties

4. Treatment of Income Earned on Antidumping Duty Deposits

[FR Doc. 2011-17486 Filed 7-12-11; 8:45 am]

BILLING CODE 3510-DS-P